DEPARTMENT OF HOMELAND SECURITY

Bureau of Customs and Border Protection

Extension of General Program Test Regarding Post Entry Amendment Processing

AGENCY: Customs and Border Protection, Department of Homeland Security.

ACTION: General notice.

SUMMARY: This document announces that the general program test regarding post entry amendment processing is being extended for a one year period. The test will continue to operate in accordance with the notice published in the Federal Register on November 28, 2000, as modified by the notice published in the Federal Register on February 20, 2003.

DATES: The test allowing post entry amendment to entry summaries is extended to December 31, 2004.

FOR FURTHER INFORMATION CONTACT: Don Yando, Chief, Entry and Drawback Branch, Office of Field Operations, 202-927-1082 or Debbie Scott, Entry and Drawback Branch, OFO, 202-927-1962.

SUPPLEMENTARY INFORMATION:

Background

The Bureau of Customs and Border Protection (CBP) announced and described the post entry amendment processing test in a general notice document published in the Federal Register (65 FR 70872) on November 28, 2000. That notice announced that the test would commence no earlier than December 28, 2000, and run for approximately one year. On January 7, 2002, CBP published a general notice in the Federal Register (67 FR 768) extending the test for a one year period to December 21, 2002. CBP published another general notice in the Federal Register (68 FR 8329) on February 20, 2003, extending the test for an additional year to December 31, 2003.

This document announces that the test is being extended to December 31, 2004. The test allows importers to amend entry summaries (not informal entries) prior to liquidation by filing with CBP either an individual amendment letter upon discovery of an error or a quarterly tracking report covering any errors that occurred during the quarter. The November 28, 2000, general notice described how to file post entry amendments for revenue related errors and non-revenue related errors and the consequences of misconduct by importers during the test. It also provided that there are no application procedures or eligibility requirements. To participate in the test, an importer need only follow the procedure for making a post entry amendment set forth in the November 28, 2000, general notice.

Comments received in response to the previously published general notices have been reviewed and CBP continues to evaluate the test. Changes to the test based on the comments and the evaluation will be announced in the Federal Register in due course. The test may be further extended if warranted. Additional information on the post entry amendment procedures can be found under “import”, then “cargo summary” at http://www.cbp.gov.

Dated: February 3, 2004.
Jayson P. Ahern,
Assistant Commissioner, Office of Field Operations.

[FR Doc. 04-2589 Filed 2-5-04; 8:45 am]

BILLING CODE 4820-02-P